DEPARTMENT OF THE INTERIOR

Fish and Wildlife Service

Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). The U.S. Fish and Wildlife Service (“we”) solicits review and comment from the public, and from local, State and Federal agencies on the following permit requests.

DATES: Comments on these permit applications must be received on or before April 29, 2005.

ADDRESSES: Written data or comments should be submitted to the U.S. Fish and Wildlife Service, Chief, Endangered Species, Ecological Services, 911 NE., 11th Avenue, Portland, Oregon 97232-4181 (fax: 503-231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 30 days of the date of publication of this notice to the address above (telephone: 503-231-2063). Please refer to the respective permit number for each application when requesting copies of documents.

SUPPLEMENTARY INFORMATION:

Permit No. TE-101141

Applicant: Washington State University, Vancouver, Washington.

The applicant requests a permit to take (survey by pursuit, mark, and release) the Fender's blue butterfly (Icaricia icarioides fenderi) in conjunction with research in Polk and Lane Counties, Oregon, for the purpose of enhancing its survival.

Permit No. TE-101373

Applicant: Jeanie Taylor, Seattle, Washington.

The applicant requests a permit to reduce/remove to possession (collect seeds) Hackelia venusta (showy stickseed) in conjunction with research in Chelan County, Washington, for the purpose of enhancing its survival.

We solicit public review and comment on these recovery permit applications.

Dated: March 11, 2005.
Don Weathers,
Acting Regional Director, Region 1, U.S. Fish and Wildlife Service.

[FR Doc. 05-6246 Filed 3-29-05; 8:45 am]

BILLING CODE 4310-55-P